DEPARTMENT OF COMMERCE

International Trade Administration

[A-570-890]

Notice of Request for Information and Extension of Time: Wooden Bedroom Furniture From the People's Republic of China

AGENCY: Import Administration, International Trade Administration, Department of Commerce.

ACTION: Notice of request for information and extension of time.

EFFECTIVE DATE: November 24, 2003.

FOR FURTHER INFORMATION CONTACT: Import Administration, International Trade Administration, U.S. Department of Commerce, 14th Street and Constitution Avenue, NW., Washington, DC 20230. Inquiries regarding any information on this notice may be addressed by calling Import Administration at 202-482-3902, via fax at 202-482-9089, and via email to the following address: bedroomfurniture@ita.doc.gov.

The Petition

On October 31, 2003, the Department of Commerce (“Department”) received an antidumping duty petition (“Petition”) filed by the American Furniture Manufacturers Committee for Legal Trade and its individual members (“the Committee”) and the Cabinet Makers, Millmen, and Industrial Carpenters Local 721 (“Local 721”) (“collectively, Petitioners”). The Petitioners are domestic producers of wooden bedroom furniture.

Scope of the Petition

The following language describes the imported merchandise from the People's Republic of China (“PRC”) that Petitioners intend to be included in the scope of the investigation:

The merchandise subject to this investigation is wooden bedroom furniture (i.e., subject merchandise). Wooden bedroom furniture is generally, but not exclusively, designed, manufactured, and offered for sale in coordinated groups, or bedrooms, in which all of the individual pieces are of approximately the same style and approximately the same material and/or finish. The subject merchandise are made substantially of wood products, including both solid wood and also engineered wood products made from wood particles, fibers, or other wooden materials such as plywood, oriented strand board, particleboard, and fiberboard; with or without wood veneers, wood overlays, or laminates; with or without non-wood components or trim such as metal, marble, leather, glass, plastic, or other resins; and whether or not assembled, completed, or finished.

The subject merchandise includes (1) wooden beds such as loft beds, bunk beds, and other beds; (2) wooden headboards for beds (whether stand-alone or attached to side rails), wooden footboards for beds, wooden side rails for beds, and wooden canopies for beds; (3) night tables, night stands, dressers, commodes, bureaus, mule chests, gentlemen's chests, bachelor's chests, lingerie chests, wardrobes, vanities, chessers, chifforobes, and wardrobe-type cabinets; (4) dressers with framed glass mirrors that are attached to, incorporated in, sit on, or hang over the dresser; (5) chests-on-chests ¹, highboys ², lowboys ³, chests of drawers ⁴, chests ⁵, door chests ⁶, chiffoniers ⁷, hutches ⁸, and armoires ⁹; (6) desks, computer stands, filing cabinets, book cases, or writing tables that are attached to or incorporated in the subject merchandise; and (7) other bedroom furniture consistent with the above list.

¹ A chest-on-chest is typically a tall chest-of-drawers in two or more sections (or appearing to be in two or more sections), with one or two sections mounted (or appearing to be mounted) on a slightly larger chest; also known as a tallboy.

² A highboy is typically a tall chest of drawers usually composed of a base and a top section with drawers, and supported on four legs or a small chest (often 15 inches or more in height).

³ A lowboy is typically a short chest of drawers, not more than four feet high, normally set on short legs.

⁴ A chest of drawers is typically a case containing drawers for storing clothing.

⁵ A chest is typically a case piece taller than it is wide featuring a series of drawers and with or without one or more doors for storing clothing. The piece can either include drawers or be designed as a large box incorporating a lid.

⁶ A door chest is typically a chest with hinged doors to store clothing, whether or not containing drawers. The piece may also include shelves for televisions and other entertainment electronics.

⁷ A chiffonier is typically a tall and narrow chest of drawers normally used for storing undergarments and lingerie, often with mirror(s) attached.

⁸ A hutch is typically an open case of furniture with shelves that typically sits on another piece of furniture and provides storage for clothes.

⁹ An armoire is typically a tall cabinet or wardrobe (typically 50 inches or taller), with doors, and with one or more drawers (either exterior below or above the doors or interior behind the doors), shelves, and/or garment rods or other apparatus for storing clothes. Bedroom armoires may also be used to hold television receivers and/or other audio-visual entertainment systems.

The scope of the petition excludes (1) seats, chairs, benches, couches, sofas, sofa beds, stools, and other seating furniture; (2) mattresses, mattress supports (including box springs), infant cribs, water beds, and futon frames; (3) office furniture, such as desks, stand-up desks, computer cabinets, filing cabinets, credenzas, and bookcases; (4) dining room or kitchen furniture such as dining tables, chairs, servers, sideboards, buffets, corner cabinets, china cabinets, and china hutches; (5) other non-bedroom furniture, such as television cabinets, cocktails tables, end tables, occasional tables, wall systems, book cases, and entertainment systems; (6) bedroom furniture made primarily of wicker, cane, osier, bamboo or rattan; (7) side rails for beds made of metal if sold separately from the headboard and footboard; and (8) bedroom furniture in which bentwood parts predominate.¹⁰

¹⁰ As used herein, bentwood means solid wood made pliable. Bentwood is wood that is brought to a curved shape by bending it while made pliable with moist heat or other agency, and then set by cooling or drying. See Customs' Headquarters' Ruling Letter 043859, dated may 17, 1976.

Imports of subject merchandise are classified under statistical category 9403.50.9040 of the Harmonized Tariff Schedule of the United States (“HTSUS”) as “wooden * * * beds” and under statistical category 9403.50.9080 of the HTSUS as “ other * * * wooden furniture of a kind used in the bedroom.” In addition, wooden headboards for beds, wooden footboards for beds, wooden side rails for beds, and wooden canopies for beds may also be entered under statistical category 9403.50.9040 of the HTSUS as “parts of wood” and framed glass mirrors may also be entered under statistical category 7009.92.5000 of the HTSUS as “glass mirrors * * * framed.” This investigation covers all wooden bedroom furniture meeting the above description, regardless of tariff classification. Although the HTSUS subheadings are provided for convenience and customs purposes, our written description of the scope of this proceeding is dispositive.

Domestic Like Product

Pursuant to Section 771(10) of the Tariff Act of 1930, as amended (“the Act”) and the Petitioners, the product that is, “like, or in the absence of like, most similar in characteristics and uses with the article subject to investigation” is wooden bedroom furniture.

Determination of Industry Support for the Petition

Section 732(b)(1) of the Act requires that a petition be filed on behalf of the domestic industry. Section 732(c)(4)(A) of the Act provides that the Department's industry support determination be based on whether a minimum percentage of the relevant industry supports the petition. A petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, the Department shall: (i) Poll the industry or rely on other information in order to determine if there is support for the petition, as required by subparagraph (A), or (ii) determine industry support using a statistically valid sampling method to poll the industry.

Request for Information

Because the Petition has not established that domestic producers or workers accounting for more than 50 percent of the total production of the domestic like product support the petition, we must “poll or otherwise determine industry support for the petition by the industry.”

In accordance with section 732(c)(4)(D) of the Act and in order to determine whether the petition establishes support of domestic producers or workers accounting for more than 50 percent of the total production of the domestic like product, we are hereby requesting that all domestic producer/manufacturers of the wooden bedroom furniture submit to the Department a response to the questions in Appendix I of this notice.

Filing Requirements

Given the very short period in which we must determine industry support, the number of potential responses, and the fact that industry support may not be re-examined after initiation, we are waiving the filing requirements set forth in 19 CFR 351.303 for certain parties submitting information on industry support. This waiver of the filing requirements will not apply to: 1) the submission of documents that are not in response to the information requested in this notice or 2) parties that are familiar with the conduct of antidumping and countervailing proceedings through prior involvement in such proceedings (e.g., parties represented by law firms that are involved in other AD/CVD cases).

This limited waiver is applicable only until November 26, 2003, the deadline for submitting the information requested in this notice. This waiver is intended to expedite the receipt of information that is essential to our analysis of industry support by providing information on the production of the domestic like product by petitioning and non-petitioning companies. By avoiding delays in the receipt of such information, we will have more time to analyze whether the statutory requirements concerning industry support for the above-referenced petitions have been met.

All parties submitting any information must include the following statement in their response: “I, (name and title), currently employed by (person), certify that (1) I have read the attached submission, and (2) based on the information made available to me by (person), I have no reason to believe that this submission contains any material misrepresentation or omission of fact.” All information received by the Department will be treated as business proprietary information as outlined in our regulations (19 CFR 351.304-306), unless otherwise noted. Please note that all company names will be treated as public information. In addition, note that all business proprietary documents received by the Department in response to this notice will be served to those individuals with access to business proprietary information under the Administrative Protective Order (“APO”). All public documents may be made available to those parties on the public service list. The APO service lists and the public service lists are available on Import Administration's Web site: http://ia.ita.doc.gov.

Information submitted to the Department in response to this notice should be faxed to the following number: 202-482-9089. Furthermore, all such information will be placed on the official record of the proceeding. Responses to this notice are due no later than November 26, 2003. Responses after this date may not be reviewed by the Department and therefore, not included in the analysis.

Extension of Time

Section 732(c)(1)(A)(ii) of the Act provides that within 20 days of the filing of an antidumping duty petition, the Department will determine, inter alia, whether the petition has been filed by or on behalf of the U.S. industry producing the domestic like product. Section 732(c)(1)(B) provides that the deadline for the initiation determination can be extended by 20 days in any case in which the Department must “poll or otherwise determine support for the petition by the industry * * *.”

We will require additional information from the petitioners and the domestic producers of wooden bedroom furniture in order to make our determination regarding industry support and/or time to analyze the petitioners' responses to our requests for information. See Memorandum to Joseph A. Spetrini, Deputy Assistant Secretary for Import Administration, Group III from Edward C. Yang, Office Director, AD/CVD Enforcement III, Office IX, regarding Antidumping Duty Petition on Wooden Bedroom Furniture from the People's Republic of China: Extension of Deadline for Determining Industry Support, dated November 13, 2003. Therefore, it is necessary to extend the deadline for decision on initiation for a period not to exceed 40 days from the filing of the petition. As a result, the initiation determination is due no later than December 10, 2003.

International Trade Commission Notification

Because the Department has extended the deadline of the initiation determination, the Department will contact the Commission and will make this extension notice available to the Commission.

Dated: November 19, 2003.
Edward C. Yang,
Acting Deputy Assistant Secretary for Import Administration, Group III.

BILLING CODE 3510-DS-C

[FR Doc. 03-29419 Filed 11-21-03; 8:45 am]

BILLING CODE 3510-DS-C